DEPARTMENT OF THE TREASURY

Fiscal Service

Surety Companies Acceptable on Federal Bonds: Amendment—New Hampshire Insurance Company

AGENCY: Financial Management Service, Fiscal Service, Department of Treasury.

ACTION: Notice.

SUMMARY: This is Supplement No. 10 to the Treasury Department Circular 570, 2005 Revision, published July 1, 2005, at 70 FR 38502.

FOR FURTHER INFORMATION CONTACT: Surety Gond Branch at (202) 874-1033.

SUPPLEMENTARY INFORMATION: The underwriting limitation for New Hampshire Insurance Company, which was listed in the Treasury Department Circular 570, published on July 1, 2005, is hereby amended to read $81,037,000.

Federal bond-approving officers should annotate their reference copies of the Treasury Circular 570, 2005 Revision, at 70 FR 38531 to reflect this change, effective today.

The Circular may be viewed and downloaded through the Internet at http://www.fms.treas.gov/c570. A hard copy may be purchased from the Government Printing Office (GPO), Subscription Service, Washington, DC, telephone (202) 512-1800. When ordering the Circular from GPO, use the following stock number: 769-004-05219-0.

Questions concerning this notice may be directed to the U.S. Department of the Treasury, Financial Management Service, Financial Accounting and Services Division, Surety Bond Branch, 3700 East-West Highway, Room 6F01, Hyattsville, MD 20782.

Dated: February 9, 2006.
Vivian L. Cooper,
Director, Financial Accounting and Services Division, Financial Management Service.

[FR Doc. 06-2347 Filed 3-10-06; 8:45 am]

BILLING CODE 4810-35-M